DEPARTMENT OF ENERGY

Federal Energy Regulatory Commission

[Docket No. RP06-154-000]

Questar Southern Trails Pipeline Company; Notice of Tariff Filing

December 30, 2005.

Take notice that on December 23, 2005, Questar Southern Trails Pipeline Company (Southern Trails) submitted for filing the following tariff sheets to Original Volume No. 1 of its FERC Gas Tariff to be effective January 23, 2006.

Original Volume No. 1

Sixth Revised Sheet No. 1

First Revised Sheet Nos. 10 and 11

Second Revised Sheet No. 12

First Revised Sheet No. 20

Second Revised Sheet No. 21

Sixth Revised Sheet No. 30

First Revised Sheet No. 38

Second Revised Sheet No. 41

First Revised Sheet Nos. 43, 44, 47, 49, 50 and 51

Second Revised Sheet Nos. 57, 61 and 76

First Revised Sheet Nos. 85, 88 and 97

Second Revised Sheet No. 108

First Revised Sheet No. 109

Southern Trails states that a copy of this filing has been served upon its customers and the Public Service Commissions of Utah, New Mexico, Arizona, and California.

Any person desiring to protest this filing must file in accordance with Rule 211 of the Commission's Rules of Practice and Procedure (18 CFR 385.211). Protests to this filing will be considered by the Commission in determining the appropriate action to be taken, but will not serve to make protestants parties to the proceeding. Such protests must be filed in accordance with the provisions of section 154.210 of the Commission's regulations (18 CFR 154.210). Anyone filing a protest must serve a copy of that document on all the parties to the proceeding.

The Commission encourages electronic submission of protests in lieu of paper using the “eFiling” link at http://www.ferc.gov. Persons unable to file electronically should submit an original and 14 copies of the protest to the Federal Energy Regulatory Commission, 888 First Street, NE., Washington, DC 20426.

This filing is accessible on-line at http://www.ferc.gov, using the “eLibrary” link and is available for review in the Commission's Public Reference Room in Washington, DC. There is an “eSubscription” link on the Web site that enables subscribers to receive e-mail notification when a document is added to a subscribed docket(s). For assistance with any FERC Online service, please e-mail FERCOnlineSupport@ferc.gov, or call (866) 208-3676 (toll free). For TTY, call (202) 502-8659.

Magalie R. Salas,
Secretary.

[FR Doc. E6-184 Filed 1-11-06; 8:45 am]

BILLING CODE 6717-01-P